ENVIRONMENTAL PROTECTION AGENCY

[FRL-7659-9]

Notice of Availability of “Award of Grants and Cooperative Agreements for the Special Projects and Programs Authorized by the Agency's FY 2004 Appropriations Act”

AGENCY: Environmental Protection Agency (EPA).

ACTION: Notice of document availability.

SUMMARY: EPA is announcing availability of a memorandum entitled “Award of Grants and Cooperative Agreements for the Special Projects and Programs Authorized by the Agency's Fiscal Year (FY) 2004 Appropriations Act.” This memorandum provides information and guidelines on how EPA will award and administer grants for the special projects and programs identified in the State and Tribal Assistance Grants (STAG) account of the Agency's FY 2004 Appropriations Act (Public Law 108-199). The STAG account provides budget authority for funding identified water, wastewater and groundwater infrastructure projects, as well as budget authority for funding the United States-Mexico Border program, the Alaska Rural and Native Villages program, the National Wastewater Treatment Demonstration Program, and the Long Island Sound Restoration Program. Each grant recipient will receive a copy of this document from EPA.

ADDRESSES: See SUPPLEMENTARY INFORMATION section for electronic access of the guidance memorandum.

FOR FURTHER INFORMATION CONTACT: Larry McGee, (202) 564-0619 or mcgee.larry@epa.gov.

SUPPLEMENTARY INFORMATION: The subject memorandum may be viewed and downloaded from EPA's homepage, http://www.epa.gov/owm/mab/owm0323.pdf.

Dated: April 29, 2004.
James A. Hanlon,
Director, Office of Wastewater Management.

[FR Doc. 04-10652 Filed 5-10-04; 8:45 am]

BILLING CODE 6560-50-P